ENVIRONMENTAL PROTECTION AGENCY

[EPA-HQ-OPP-2008-0002; FRL-8394-6]

Ace Info Solutions, Inc.; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Ace Info Solutions, Inc., in accordance with 40 CFR 2.307(h)(3) and 2.308(i)(2). Ace Info Solutions, Inc., has been awarded multiple contracts to perform work for OPP, and access to this information will enable Ace Info Solutions, Inc., to fulfill the obligations of these contracts.

DATES: Ace Info Solutions, Inc., will be given access to this information on or before December 22, 2008.

FOR FURTHER INFORMATION CONTACT: Felicia Croom, Information Technology and Resources Management Division (7502P), Office of Pesticide Programs, Environmental Protection Agency, 1200 Pennsylvania Ave., NW., Washington, DC 20460-0001; telephone number: (703) 305-0786; e-mail address: croom.felicia@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2008-0002. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Contractor Requirements

Under Contract No. EP-W-09-001, the contractor will perform the following:

• Build quickly small applications to fill specific or emergency needs which fall outside of the scope of work of the OPP Infrastructure Maintenance contract. This maintenance and application enhancement work may be in Oracle, Lotus Notes, Domino, Lotus Enterprise Integrator (LEI), Documentum, Business Objects, or any other software application platform that may be housed on OPP' s servers, or on other Agency servers at EPA Headquarters, or at EPA' s computer facility in Research Triangle Park, NC. The contractors will provide maintenance, application enhancements, and documenting existing applications.

• This contract covers those activities.

• This contract involves no subcontractors.

OPP has determined that the contract described in this document involves work that is being conducted in connection with FIFRA, in that pesticide chemicals will be the subject of certain evaluations to be made under this contract. These evaluations may be used in subsequent regulatory decisions under FIFRA.

Some of this information may be entitled to confidential treatment. The information has been submitted to EPA under sections 3, 4, 6, and 7 of FIFRA and under sections 408 and 409 of FFDCA.

In accordance with the requirements of 40 CFR 2.307(h)(3), the contract with Ace Info Solutions, Inc., prohibits use of the information for any purpose not specified in this contract; prohibits disclosure of the information to a third party without prior written approval from the Agency; and requires that each official and employee of the contractor sign an agreement to protect the information from unauthorized release and to handle it in accordance with the FIFRA Information Security Manual. In addition, Ace Info Solutions, Inc., is required to submit for EPA approval a security plan under which any CBI will be secured and protected against unauthorized release or compromise. No information will be provided to Ace Info Solutions, Inc., until the requirements in this document have been fully satisfied. Records of information provided to Ace Info Solutions, Inc., will be maintained by the EPA Project Officer for this contract. All information supplied to Ace Info Solutions, Inc., by EPA for use in connection with this contract will be returned to EPA when Ace Info Solutions, Inc., has completed its work.

List of Subjects

Environmental protection, Business and industry, Government contracts, Government property, Security measures.

Dated: December 3, 2008.
Kathryn Bouve
Acting Director, Office of Pesticide Programs.

[FR Doc. E8-29465 Filed 12-16-08; 8:45 am]

BILLING CODE 6560-50-S